DEPARTMENT OF LABOR

Employment and Training Administration

[TA-W-53,008]

Martens Manufacturing, LLC, Kingsford, Michigan; Notice of Affirmative Determination Regarding Application for Reconsideration

By letter of November 6, 2003, a petitioner requested administrative reconsideration of the Department of Labor's Notice of Negative Determination Regarding Eligibility to Apply for Worker Adjustment Assistance, applicable to workers of the subject firm. The Department's determination notice was signed on October 10, 2003 and published in the Federal Register on November 6, 2003 (68 FR 62833).

The Department reviewed the request for reconsideration and has determined that the petitioner has provided additional customer information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 4th day of December, 2003.
Elliott S. Kushner,
Certifying Officer, Division of Trade Adjustment Assistance.

[FR Doc. 03-31856 Filed 12-24-03; 8:45 am]

BILLING CODE 4510-30-P